DEPARTMENT OF ENERGY

Federal Energy Regulatory Commission

Combined Notice of Filings #2

Take notice that the Commission received the following electric corporate filings:

Docket Numbers: EC13-24-000.

Applicants: Stony Creek Wind Farm, LLC.

Description: Application for Authorization Under Section 203 of the Federal Power Act, Requests for Waivers of Filing Requirements, Expedited Consideration and Confidential Treatment of Stony Creek Wind Farm, LLC.

Filed Date: 10/25/12.

Accession Number: 20121025-5062.

Comments Due: 5 p.m. ET 11/15/12.

Take notice that the Commission received the following electric rate filings:

Docket Numbers: ER12-2233-002.

Applicants: Berry Petroleum Company.

Description: Berry Petroleum Company MBR Compliance Filing to be effective 9/10/2012.

Filed Date: 10/25/12.

Accession Number: 20121025-5048.

Comments Due: 5 p.m. ET 11/15/12.

Docket Numbers: ER13-70-001.

Applicants: Texas Dispatchable Wind 1, LLC.

Description: Amendment to be effective 10/25/2012.

Filed Date: 10/25/12.

Accession Number: 20121025-5064.

Comments Due: 5 p.m. ET 11/15/12.

Docket Numbers: ER13-184-000.

Applicants: PacifiCorp.

Description: WAPA-LAP Short Term and Non-Firm Point-to-Point Transmission Service Agreements to be effective 10/22/2012.

Filed Date: 10/25/12.

Accession Number: 20121025-5067.

Comments Due: 5 p.m. ET 11/15/12.

Docket Numbers: ER13-185-000.

Applicants: ISO New England Inc.

Description: 2013 Administrative Costs Budget Filing to be effective 1/1/2013.

Filed Date: 10/25/12.

Accession Number: 20121025-5068.

Comments Due: 5 p.m. ET 11/15/12.

Docket Numbers: ER13-186-000.

Applicants: Midwest Independent Transmission System Operator, Inc.

Description: 10-25-12 BRP to be effective 12/31/2012.

Filed Date: 10/25/12.

Accession Number: 20121025-5069.

Comments Due: 5 p.m. ET 11/15/12.

Docket Numbers: ER13-188-000.

Applicants: Arizona Public Service Company.

Description: WAPA Bouse Switchyard Construction Agreement, Rate Schedule No. 259 to be effective 12/25/2012.

Filed Date: 10/25/12.

Accession Number: 20121025-5073.

Comments Due: 5 p.m. ET 11/15/12.

Docket Numbers: ER13-189-000.

Applicants: Cordova Energy Company LLC.

Description: Amendment to MBR Tariff Filing to be effective 10/26/2012.

Filed Date: 10/25/12.

Accession Number: 20121025-5084.

Comments Due: 5 p.m. ET 11/15/12.

Docket Numbers: ER13-190-000.

Applicants: Power Resources, Ltd.

Description: Amendment MBR Tariff Filing to be effective 10/26/2012.

Filed Date: 10/25/12.

Accession Number: 20121025-5086.

Comments Due: 5 p.m. ET 11/15/12.

Docket Numbers: ER13-191-000.

Applicants: Saranac Power Partners, L.P.

Description: Amendment to MBR Tariff Filing to be effective 10/26/2012.

Filed Date: 10/25/12.

Accession Number: 20121025-5087.

Comments Due: 5 p.m. ET 11/15/12.

Docket Numbers: ER13-192-000.

Applicants: ISO New England Inc.

Description: ISO New England Inc. submits 2013 Capital Budget and Capital Budget Quarterly Filing for Third Quarter of 2012.

Filed Date: 10/25/12.

Accession Number: 20121025-5097.

Comments Due: 5 p.m. ET 11/15/12.

Docket Numbers: ER13-194-000.

Applicants: Yuma Cogeneration Associates.

Description: Amendment MBR Tariff Filing to be effective 10/26/2012.

Filed Date: 10/25/12.

Accession Number: 20121025-5101.

Comments Due: 5 p.m. ET 11/15/12.

Take notice that the Commission received the following land acquisition reports:

Docket Numbers: LA12-3-000.

Applicants: Iberdrola Renewables, LLC, Atlantic Renewable Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Dry Lake Wind Power, LLC, Dry Lake Wind Power II LLC, Elk River Windfarm, LLC, Elm Creek Wind, LLC, Elm Creek Wind II LLC, Farmers City Wind, LLC, Flat Rock Windpower LLC, Flat Rock Windpower II LLC, Flying Cloud Power Partners, LLC, Groton Wind, LLC, Hardscrabble Wind Power LLC, Hay Canyon Wind LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge II, LLC, Manzana Wind LLC, MinnDakota Wind LLC, Moraine Wind LLC, Moraine Wind II LLC, Mountain View Power Partners III, LLC, New England Wind, LLC, New Harvest Wind Project LLC, Northern Iowa Windpower II LLC, Pebble Springs Wind LLC, Providence Heights Wind, LLC, Rugby Wind LLC, San Luis Solar LLC, Shiloh I Wind Project, LLC, South Chestnut LLC, Star Point Wind Project LLC, Streator-Cayuga Ridge Wind Power LLC, Trimont Wind I LLC, and Twin Buttes Wind LLC.

Description: Quarterly Land Acquisition Report of Iberdrola Renewables MBR Sellers.

Filed Date: 10/25/12.

Accession Number: 20121025-5096.

Comments Due: 5 p.m. ET 11/15/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2012.
Nathaniel J. Davis, Sr.,
Deputy Secretary.

[FR Doc. 2012-26922 Filed 11-2-12; 8:45 am]

BILLING CODE 6717-01-P